ENVIRONMENTAL PROTECTION AGENCY

40 CFR Part 52

[GA 2018; FRL-9997-86-Region 4]

Air Plan Approval; Georgia; Update to Materials Incorporated by Reference

AGENCY: Environmental Protection Agency (EPA).

ACTION: Final rule; notification of administrative change.

SUMMARY: The Environmental Protection Agency (EPA) is updating the materials that are incorporated by reference (IBR) into the Georgia state implementation plan (SIP). The regulations affected by this update have been previously submitted by Georgia and approved by EPA. This update affects the materials that are available for public inspection at the National Archives and Records Administration (NARA) and the EPA Regional Office.

DATES: This action is effective September 3, 2019.

ADDRESSES: SIP materials which are incorporated by reference into 40 CFR part 52 are available for inspection at the following locations: Environmental Protection Agency, Region 4, 61 Forsyth Street SW, Atlanta, GA 30303; and the National Archives and Records Administration. For information on the availability of this material at NARA, call 202-741-6030, or go to: http://www.archives.gov/federal-register/cfr/ibr-locations.html. To view the materials at the Region 4 Office, EPA requests that you email the contact listed in the FOR FURTHER INFORMATION CONTACT section to schedule your inspection. The Regional Office's official hours of business are Monday through Friday 8:30 a.m. to 4:30 p.m., excluding Federal holidays.

FOR FURTHER INFORMATION CONTACT: Richard Wong, Air Regulatory Management Section, Air Planning and Implementation Branch, Air and Radiation Division, U.S. Environmental Protection Agency, Region 4, 61 Forsyth Street SW, Atlanta, Georgia 30303-8960. Mr. Wong can be reached via telephone at (404) 562-8726 or via electronic mail at wong.richard@epa.gov.

SUPPLEMENTARY INFORMATION:

I. Background

Each state has a SIP containing the control measures and strategies used to attain and maintain the national ambient air quality standards (NAAQS). The SIP is extensive, containing such elements as air pollution control regulations, emission inventories, monitoring networks, attainment demonstrations, and enforcement mechanisms.

Each state must formally adopt the control measures and strategies in the SIP after the public has had an opportunity to comment on them and then submit the proposed SIP revisions to EPA. Once these control measures and strategies are approved by EPA, and after notice and comment, they are incorporated into the federally-approved SIP and are identified in part 52 “Approval and Promulgation of Implementation Plans,” title 40 of the Code of Federal Regulations (40 CFR part 52). The full text of the state regulation approved by EPA is not reproduced in its entirety in 40 CFR part 52, but is “incorporated by reference.” This means that EPA has approved a given state regulation or specified changes to the given regulation with a specific effective date. The public is referred to the location of the full text version should they want to know which measures are contained in a given SIP. The information provided allows EPA and the public to monitor the extent to which a state implements a SIP to attain and maintain the NAAQS and to take enforcement action if necessary.

The SIP is a living document which the state can revise as necessary to address the unique air pollution problems in the state. Therefore, EPA from time to time must take action on proposed revisions containing new and/or revised state regulations. A submission from a state can revise one or more rules in their entirety or portions of rules, or even change a single word. The state indicates the changes in the submission (such as, by using redline/strikethrough) and EPA then takes action on the requested changes. EPA establishes a docket for its actions using a unique Docket Identification Number, which is listed in each action. These dockets and the complete submission are available for viewing on www.regulations.gov.

On May 22, 1997 (62 FR 27968), EPA revised the procedures for incorporating by reference, into the Code of Federal Regulations, materials approved by EPA into each state SIP. These changes revised the format for the identification of the SIP in 40 CFR part 52, streamlined the mechanisms for announcing EPA approval of revisions to a SIP, and streamlined the mechanisms for EPA's updating of the IBR information contained for each SIP in 40 CFR part 52. The revised procedures also called for EPA to maintain “SIP Compilations” that contain the federally-approved regulations and source specific permits submitted by each state agency. These SIP Compilations are updated primarily on an annual basis. Under the revised procedures, EPA must periodically publish an informational document in the rules section of the Federal Register notifying the public that updates have been made to a SIP Compilation for a particular state. EPA applied the 1997 revised procedures to Georgia on May 21, 1999 (64 FR 27699).

II. EPA Action

This action represents EPA's publication of the Georgia SIP Compilation update, appearing in 40 CFR part 52: Specifically, the materials of paragraph (c) and (d) at 40 CFR 52.570. In addition, this notice also corrects typographical errors and provides notice of the following corrections to Table (c) of § 52.570, as described below:

Changes Applicable to EPA-Approved Georgia Regulations

1. Under the “EPA approval date” column, the period is removed after the Federal Register citation.

2. Under Rule 391-3-1-.02(2)(ooo), “Heavy-Duty Diesel Engine Requirements” the entry was deleted from the table because EPA previously approved removal of this provision from the SIP. See 82 FR 22079 (May 12, 2017).

3. Under Rule 391-3-.20, “Enhanced Inspection and Maintenance” the State effective date was revised to read “6/19/2014” and EPA approval date was revised to read “4/10/2017, 82 FR 17128.”

4. Under Rules 391-3-1-.02(2)(a), 391-3-1-.02(7), 391-3-1-.03(2), and 391-3-1-.03(8), the explanation column was revised to clarify the effect of previous EPA actions on Georgia's SIP submittals.

III. Good Cause Exemption

EPA has determined that this action falls under the “good cause” exemption under section 553(b)(3)(B) of the Administrative Procedure Act (APA) which, upon finding “good cause,” authorizes agencies to dispense with public participation and section 553(d)(3) which allows an agency to make an action effective immediately (thereby avoiding the 30-day delayed effective date otherwise provided for in the APA). This administrative action simply codifies provisions which are already in effect as a matter of law in Federal and approved state programs and makes typographical/ministerial revisions to the tables in the CFR. Under section 553(b)(3)(B) of the APA, an agency may find good cause where public participation procedures are “impracticable, unnecessary, or contrary to the public interest.” Public comment for this administrative action is “unnecessary” and “contrary to the public interest” since the codification (and typographical corrections) only reflect existing law and the revisions are ministerial in nature. Immediate notice of this action in the Federal Register benefits the public by providing the public notice of the updated Georgia SIP Compilation and notice of typographical corrections and ministerial changes to the Georgia “Identification of Plan” portion of the Federal Register. Further, pursuant to section 553(d)(3), making this action immediately effective benefits the public by immediately updating both the SIP Compilation and the CFR “Identification of plan” section (which includes table entry corrections).

IV. Incorporation by Reference

In this rule, EPA is finalizing regulatory text that includes incorporation by reference. In accordance with requirements of 1 CFR 51.5, EPA is finalizing the incorporation by reference of previously EPA-approved regulations promulgated by Georgia and federally-effective prior to October 1, 2018. EPA has made, and will continue to make, these materials generally available through www.regulations.gov and at the EPA Region 4 Office (please contact the person identified in the FOR FURTHER INFORMATION CONTACT section of this preamble for more information).

V. Statutory and Executive Order Reviews

Under the CAA, the Administrator is required to approve a SIP submission that complies with the provisions of the Act and applicable federal regulations. See 42 U.S.C. 7410(k); 40 CFR 52.02(a). Thus, in reviewing SIP submissions, EPA's role is to approve state choices, provided that they meet the criteria of the CAA. Accordingly, this notice of administrative change does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

EPA also believes that the provisions of section 307(b)(1) of the CAA pertaining to petitions for judicial review are not applicable to this action. This is because prior EPA rulemaking actions for each individual component of the Georgia SIP compilation previously afforded interested parties the opportunity to file a petition for judicial review in the United States Court of Appeals for the appropriate circuit within 60 days of such rulemaking action. Thus, EPA believes judicial review of this action under section 307(b)(1) is not available.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: July 29, 2019
Mary S. Walker,
Regional Administrator, Region 4.

40 CFR part 52, is amended as follows:

PART 52—APPROVAL AND PROMULGATION OF IMPLEMENTATION PLANS

1. The authority for citation for part 52 continues to read as follows:

Authority: 42 U.S.C. 7401 et seq.

Subpart L—Georgia

2. In § 52.570, paragraphs (b), (c), and (d) are revised to read as follows:

§ 52.570 Identification of plan.

* * * * *

(b) Incorporation by reference. (1) Material listed in paragraphs (c) and (d) of this section with an EPA approval date prior to October 1, 2018, was approved for incorporation by reference by the Director of the Federal Register in accordance with 5 U.S.C. 552(a) and 1 CFR part 51. Material is incorporated as it exists on the date of the approval, and notice of any change in the material will be published in the Federal Register. Entries in paragraph (c) and (d) of this section with EPA approval dates after October 1, 2018, for Georgia will be incorporated by reference in the next update to the SIP compilation.

(2) EPA Region 4 certifies that the rules/regulations provided by EPA in the SIP compilation at the addresses in paragraph (b)(3) of this section are an exact duplicate of the officially promulgated State rules/regulations which have been approved as part of the State Implementation Plan as of the dates referenced in paragraph (b)(1) of this section.

(3) Copies of the materials incorporated by reference may be inspected at the Region 4 EPA Office at 61 Forsyth Street SW, Atlanta, GA 30303. To obtain the material, please call (404) 562-9022. You may inspect the material with an EPA approval date prior to October 1, 2018, for Georgia at the National Archives and Records Administration. For information on the availability of this material at NARA go to: http://www.archives.gov/federal-register/cfr/ibr-locations.html.

(c) EPA Approved Georgia Regulations.

EPA Approved Georgia Regulations
State citation | Title/subject | State effective date | EPA approval date | Explanation
391-3-1-.01 | Definitions | 7/20/2017 | 12/4/2018, 83 FR 62466
391-3-1-.02 | Provisions
391-3-1-.02(1) | General Requirements | 3/20/1979 | 9/18/1979, 44 FR 54047
391-3-1-.02(2) | Emission Standards
391-3-1-.02(2)(a) | General Provisions | 8/1/2013 | 7/28/2017, 82 FR 35106 | Except for paragraph 391-3-1-.02(2)(a)1 (as approved on 3/16/2006).
391-3-1-.02(2)(b) | Visible Emissions | 1/17/1979 | 9/18/1979, 44 FR 54047
391-3-1-.02(2)(c) | Incinerators | 8/9/2012 | 4/9/2013, 78 FR 21065
391-3-1-.02(2)(d) | Fuel-burning Equipment | 7/20/2005 | 2/9/2009, 75 FR 6309
391-3-1-.02(2)(e) | Particulate Emission from Manufacturing Processes | 8/1/2013 | 7/28/2017, 82 FR 35106
391-3-1-.02(2)(f) | Normal Superphosphate Manufacturing Facilities | 1/17/1979 | 9/18/1979, 44 FR 54047
391-3-1-.02(2)(g) | Sulfur Dioxide | 7/17/2002 | 7/9/2003, 68 FR 40786
391-3-1-.02(2)(h) | Portland Cement Plants | 1/17/1979 | 9/18/1979, 44 FR 54047
391-3-1-.02(2)(i) | Nitric Acid Plants | 1/17/1979 | 9/18/1979, 44 FR 54047
391-3-1-.02(2)(j) | Sulfuric Acid Plants | 1/17/1979 | 9/18/1979, 44 FR 54047
391-3-1-.02(2)(k) | Particulate Emission from Asphaltic Concrete Hot Mix Plants | 1/17/1979 | 9/18/1979, 44 FR 54047
391-3-1-.02(2)(n) | Fugitive Dust | 1/17/1979 | 9/18/1979, 44 FR 54047
391-3-1-.02(2)(p) | Particulate Emissions from Kaolin and Fuller's Earth Processes | 8/1/2013 | 7/28/2017, 82 FR 35106
391-3-1-.02(2)(q) | Particulate Emissions from Cotton Gins | 8/1/2013 | 7/28/2017, 82 FR 35106
391-3-1-.02(2)(r) | Particulate Emissions from Granular and Mixed Fertilizer Manufacturing Units | 1/27/1972 | 5/31/1972, 37 FR 10842
391-3-1-.02(2)(t) | VOC Emissions from Automobile and Light Duty Truck Manufacturing | 3/7/2012 | 9/28/2012, 77 FR 59554
391-3-1-.02(2)(u) | VOC Emissions from Can Coating | 9/16/1992 | 9/28/2012, 77 FR 59554
391-3-1-.02(2)(v) | VOC Emissions from Coil Coating | 9/16/1992 | 9/28/2012, 77 FR 59554
391-3-1-.02(2)(w) | VOC Emissions from Paper Coating | 3/7/2012 | 9/28/2012, 77 FR 59554
391-3-1-.02(2)(x) | VOC Emissions from Fabric and Vinyl Coating | 9/16/1992 | 9/28/2012, 77 FR 59554
391-3-1-.02(2)(y) | VOC Emissions from Metal Furniture Coating | 3/7/2012 | 9/28/2012, 77 FR 59554
391-3-1-.02(2)(z) | VOC Emissions from Large Appliance Surface Coating | 3/7/2012 | 9/28/2012, 77 FR 59554
391-3-1-.02(2)(aa) | VOC Emissions from Wire Coating | 9/16/1992 | 9/28/2012, 77 FR 59554
391-3-1-.02(2)(bb) | Petroleum Liquid Storage | 1/9/1991 | 10/13/1992, 57 FR 46780
391-3-1-.02(2)(cc) | Bulk Gasoline Terminals | 1/9/1991 | 10/13/1992, 57 FR 46780
391-3-1-.02(2)(dd) | Cutback Asphalt | 1/17/1979 | 9/18/1979, 44 FR 54047
391-3-1-.02(2)(ee) | Petroleum Refinery | 1/9/1991 | 10/13/1992, 57 FR 46780
391-3-1-.02(2)(ff) | Solvent Metal Cleaning | 5/29/1996 | 4/26/1999, 64 FR 20186
391-3-1-.02(2)(gg) | Kraft Pulp Mills | 8/1/2013 | 7/28/2017, 82 FR 35106
391-3-1-.02(2)(hh) | Petroleum Refinery Equipment Leaks | 6/24/1994 | 2/2/1996, 61 FR 3817
391-3-1-.02(2)(ii) | VOC Emissions from Surface Coating of Miscellaneous Metal Parts and Products | 3/7/2012 | 9/28/2012, 77 FR 59554
391-3-1-.02(2)(jj) | VOC Emissions from Surface Coating of Flat Wood Paneling | 3/7/2012 | 9/28/2012, 77 FR 59554
391-3-1-.02(2)(kk) | VOC Emissions from Synthesized Pharmaceutical Manufacturing | 12/18/1980 | 11/24/1981, 46 FR 57486
391-3-1-.02(2)(ll) | VOC Emissions from the Manufacture of Pneumatic Rubber Tires | 12/18/1980 | 11/24/1981, 46 FR 57486
391-3-1-.02(2)(mm) | VOC Emissions from Graphic Arts Systems | 3/7/2012 | 9/28/2012, 77 FR 59554
391-3-1-.02(2)(nn) | VOC Emissions from External Floating Roof Tanks | 12/18/1980 | 11/24/1981, 46 FR 57486
391-3-1-.02(2)(oo) | Fiberglass Insulation Manufacturing Plants | 12/18/1980 | 11/24/1981, 46 FR 57486
391-3-1-.02(2)(pp) | Bulk Gasoline Plants | 6/8/2008 | 9/28/2012, 77 FR 59554
391-3-1-.02(2)(qq) | VOC Emissions from Large Petroleum Dry Cleaners | 4/3/1991 | 10/13/1992, 57 FR 46780
391-3-1-.02(2)(rr) | Gasoline Dispensing Facilities—Stage I | 6/8/2008 | 9/28/2012, 77 FR 59554
391-3-1-.02(2)(ss) | Gasoline Transport Systems and Vapor Collection Systems | 8/1/2013 | 7/28/2017, 82 FR 35106
391-3-1-.02(2)(tt) | VOC Emissions from Major Sources | 6/8/2008 | 9/28/2012, 77 FR 59554
391-3-1-.02(2)(uu) | Visibility Protection | 10/31/1985 | 1/28/1986, 51 FR 3466
391-3-1-.02(2)(vv) | Volatile Organic Liquid Handling and Storage | 4/12/2009 | 9/28/2012, 77 FR 59554
391-3-1-.02(2)(yy) | Emissions of Nitrogen Oxides from Major Sources | 4/12/2009 | 9/28/2012, 77 FR 59554
391-3-1-.02(2)(ccc). | VOC Emissions from Bulk Mixing Tanks | 4/12/2009 | 9/28/2012, 77 FR 59554
391-3-1-.02(2)(ddd) | VOC Emissions from Offset Lithography and Letterpress | 3/7/2012 | 9/28/2012, 77 FR 59554
391-3-1-.02(2)(eee) | VOC Emissions from expanded Polystyrene Products Manufacturing | 4/12/2009 | 9/28/2012, 77 FR 59554
391-3-1-.02(2)(fff) | Particulate Matter Emissions from Yarn Spinning Operations | 6/15/1998 | 12/2/1999, 64 FR 67491
391-3-1-.02(2)(hhh) | Wood Furniture Finishing and Cleaning Operations | 4/12/2009 | 9/28/2012, 77 FR 59554
391-3-1-.02(2)(jjj) | NOX Emissions from Electric Utility Steam Generating Units | 3/12/2007 | 11/27/2009, 74 FR 62249
391-3-1-.02(2)(kkk) | VOC Emissions from Aerospace Manufacturing and Rework Facilities | 4/12/2009 | 9/28/2012, 77 FR 59554
391-3-1-.02(2)(lll) | NOX Emissions from Fuel-burning Equipment | 4/12/2009 | 9/28/2012, 77 FR 59554
391-3-1-.02(2)(mmm) | NOX Emissions from Stationary Gas Turbines and Stationary Engines used to Generate Electricity | 5/4/2014 | 9/1/2015, 80 FR 52627
391-3-1-.02(2)(nnn) | NOX Emissions from Large Stationary Gas Turbines | 2/16/2000 | 7/10/2001, 66 FR 35906
391-3-1-.02(2)(rrr) | NOX Emissions from Small Fuel-Burning Equipment | 4/12/2009 | 9/28/2012, 77 FR 59554
391-3-1-.02(2)(vvv) | VOC Emissions from Coating Miscellaneous Plastic Parts and Products | 3/7/2012 | 9/28/2012, 77 FR 59554
391-3-1-.02(2)(yyy) | VOC Emissions from the use of Miscellaneous Industrial Adhesives | 3/7/2012 | 9/28/2012, 77 FR 59554
391-3-1-.02(2)(zzz) | VOC Emissions from Fiberglass Boat Manufacturing | 3/7/2012 | 9/28/2012, 77 FR 59554
391-3-1-.02(2)(aaaa) | Industrial Cleaning Solvents | 3/7/2012 | 9/28/2012, 77 FR 59554
391-3-1-.02(3) | Sampling | 6/15/1998 | 12/2/1999, 64 FR 67491
391-3-1-.02(4) | Ambient Air Standards | 7/20/2017 | 12/4/2018, 83 FR 62466
391-3-1-.02(5) | Open Burning | 7/13/2006 | 2/9/2010, 75 FR 6309
391-3-1-.02(6) | Source Monitoring | 8/1/2013 | 7/28/2017, 82 FR 35108
391-3-1-.02(7) | Prevention of Significant Deterioration of Air Quality (PSD) | 7/20/2017 | 12/14/2018, 83 FR 64285 | Except for the automatic rescission clause at 391-3-1-.02(7)(a)(2)(iv), which EPA disapproved on March 4, 2016. Except for portions of Rule 391-3-1-.02(7) incorporating by reference 40 CFR 52.21(b)(1)(i)(a), 40 CFR 52.21(b)(1)(iii)(t), 40 CFR 52.21(b)(2)(v), and 40 CFR 52.21(b)(3)(iii)(c), because those CFR provisions were indefinitely stayed by the Fugitive Emissions Rule in the March 30, 2011 rulemaking and have not been approved into the Georgia SIP. Except for portions of Rule 391-3-1-.02(7) incorporating by reference the exemption of ethanol production facilities that produce ethanol by natural fermentation from the requirement to include fugitive emissions in determining major source applicability at 40 CFR 52.21(b)(1)(i)(a) and 40 CFR 52.21(b)(1)(iii)(t). Those provisions have not been approved into the Georgia SIP.
|  |  |  | On September 9, 2011 Georgia's PSD Rule 391-3-1-.02(7) incorporates by reference the regulations found at 40 CFR 52.21 as of June 3, 2010, with changes. This EPA action is approving the incorporation by reference with the exception of the following provisions: (1) The provisions amended in the Ethanol Rule which exclude facilities that produce ethanol through a natural fermentation process from the definition of “chemical process plants” in the major NSR source permitting program found at 40 CFR 52.21(b)(1)(i)(a) and (b)(1)(iii)(t); and (2) the administrative regulations amended in the Fugitive Emissions Rule. Additionally, this EPA action is not approving the “automatic rescission clause” provision at 391-3-1.02(7)(a)2.(iv). This rule contains NOX as a precursor to ozone for PSD and NSR.
391-3-1-.02(11) | Compliance Assurance Monitoring | 6/15/1998 | 12/2/1999, 64 FR 67491
391-3-1-.02(12) | Cross State Air Pollution Rule NOX Annual Trading Program | 7/20/2017 | 10/13/2017, 82 FR 47930
391-3-1-.02(13) | Cross State Air Pollution Rule SO2 Annual Trading Program | 7/20/2017 | 10/13/2017, 82 FR 47930
391-3-1-.02(14) | Cross State Air Pollution Rule NOX Ozone Season Trading Program | 7/20/2017 | 10/13/2017, 82 FR 47930
391-3-1-.03 | Permits
391-3-1-.03(1) | Construction (SIP) Permit | 8/17/1994 | 8/30/1995, 60 FR 45048
391-3-1-.03(2) | Operating (SIP) Permit | 12/26/2001 | 7/11/2002, 67 FR 45909 | Except subparagraph (e), which is not approved into the SIP.
391-3-1-.03(3) | Revocation, Suspension, Modification or Amendment of Permits | 2/23/1979 | 9/18/1979, 44 FR 54047
391-3-1-.03(4) | Permits not Transferable | 11/20/1975 | 8/20/1976, 41 FR 35184
391-3-1-.03(5) | Permits Public Records | 10/28/1992 | 2/2/1996, 61 FR 3819
391-3-1-.03(6) | Exemptions | 8/9/2012 | 4/9/2013, 78 FR 21065
391-3-1-.03(7) | Combined Permits and Applications | 2/23/1979 | 9/18/1979, 44 FR 54047
391-3-1-.03(8) | Permit Requirements | 8/1/2013 | 10/16/2017, 82 FR 47993 | Except subparagraph (g), which was approved into the SIP with a state-effective date of 9/13/2011.
391-3-1-.03(11) | Permit by Rule | 7/20/2005 | 2/9/2010, 75 FR 6309
391-3-1-.03(12) | Generic Permit | 8/17/1994 | 8/30/1995, 60 FR 45048
391-3-1-.03(13) | Emission Reduction Credits | 9/11/2008 | 3/14/2019, 84 FR 9240 | Except subparagraph 391-3-1-.03(13)(f), which was approved into the SIP with a state-effective date of 7/18/2001, and subparagraphs (b), (c), (e), (g), and (i), which were approved into the SIP with a state-effective date of 2/16/2000.
391-3-1-.04 | Air Pollution Episodes | 11/20/1975 | 8/20/1976, 41 FR 35184
391-3-1-.07 | Inspections and Investigations | 11/20/1975 | 8/20/1976, 41 FR 35184
391-3-1-.08 | Confidentiality of information | 11/20/1975 | 8/20/1976, 41 FR 35184
391-3-1-.09 | Enforcement | 11/22/1992 | 2/2/1996, 61 FR 3819
391-3-1-.10 | Continuance of Prior Rules | 11/22/1992 | 2/2/1996, 61 FR 3819
391-3-1-.15 | Georgia Transportation Conformity and Consultation Interagency Rule | 10/6/2010 | 6/15/2012, 77 FR 35866
391-3-20 | Enhanced Inspection and Maintenance | 6/19/2014 | 4/10/2017, 82 FR 17128

(d) EPA-Approved State Source Specific Requirements

EPA Approved Georgia Source-Specific Requirements
Name of source | Permit No. | State effective date | EPA approval date | Comments
Georgia Power Plant Bowen | EPD-AQC-180 | 11/17/1980 | 8/17/1981, 46 FR 41498
Georgia Power Plant Harllee Branch | 4911-117-6716-0 | 4/23/1980 | 5/5/1981, 46 FR 25092
ITT Rayonier, Inc | 2631-151-7686-C | 11/4/1980 | 8/14/1981, 46 FR 41050
Georgia Power Plant Bowen | EPD-AQC-163 | 5/16/1979 | 1/3/1980, 45 FR 781
Union Camp | 2631-025-7379-0 | 12/18/1981 | 4/13/1982, 47 FR 15794
Blue Bird Body Company | 3713-111-8601 | 1/27/1984 | 1/7/1985, 50 FR 765
Plant McDonough | 4911-033-5037-0 conditions 10 through 22 | 12/27/1995 | 3/18/1999, 64 FR 13348
Plant Yates | 4911-038-4838-0 conditions 19 through 32 | 12/27/1995 | 3/18/1999, 64 FR 13348
Plant Yates | 4911-038-4839-0 conditions 16 through 29 | 12/27/1995 | 3/18/1999, 64 FR 13348
Plant Yates | 4911-038-4840-0 conditions 16 through 29 | 12/27/1995 | 3/18/1999, 64 FR 13348
Plant Yates | 4911-038-4841-0 conditions 16 through 29 | 12/27/1995 | 3/18/1999, 64 FR 13348
Plant Atkinson | 4911-033-1321-0 conditions 8 through 13 | 11/15/1994 | 3/18/1999, 64 FR 13348
Plant Atkinson | 4911-033-1322-0 conditions 8 through 13 | 11/15/1994 | 3/18/1999, 64 FR 13348
Plant Atkinson | 4911-033-6949 conditions 5 through 10 | 11/15/1994 | 3/18/1999, 64 FR 13348
Plant Atkinson | 4911-033-1320-0 conditions 8 through 13 | 11/15/1994 | 3/18/1999, 64 FR 13348
Plant Atkinson | 4911-033-1319-0 conditions 8 through 13 | 11/15/1994 | 3/18/1999, 64 FR 13348
Plant McDonough | 4911-033-6951 conditions 5 through 10 | 11/15/1994 | 3/18/1999, 64 FR 13348
Atlanta Gas Light Company | 4922-028-10902 conditions 20 and 21 | 11/15/1994 | 3/18/1999, 64 FR 13348
Atlanta Gas Light Company | 4922-031-10912 conditions 27 and 28 | 11/15/1994 | 3/18/1999, 64 FR 13348
Austell Box Board Corporation | 2631-033-11436 conditions 1 through 5 | 11/15/1994 | 3/18/1999, 64 FR 13348
Emory University | 8922-044-10094 conditions 19 through 26 | 11/15/1994 | 3/18/1999, 64 FR 13348
General Motors Corporation | 3711-044-11453 conditions 1 through 6 and Attachment A | 11/15/1994 | 3/18/1999, 64 FR 13348
Georgia Proteins Company | 2077-058-11226 conditions 16 through 23 and Attachment A | 11/15/1994 | 3/18/1999, 64 FR 13348
Owens-Brockway Glass Container, Inc | 3221-060-10576 conditions 26 through 28 and Attachment A | 11/15/1994 | 3/18/1999, 64 FR 13348
Owens-Corning Fiberglass Corporation | 3296-060-10079 conditions 25 through 29 | 11/15/1994 | 3/18/1999, 64 FR 13348

* * * * *

[FR Doc. 2019-18590 Filed 8-30-19; 8:45 am]

BILLING CODE 6560-50-P